DEPARTMENT OF ENERGY

Federal Energy Regulatory Commission

[Docket No. EC04-67-000, et al.]

Astoria Energy, LLC, et al.; Electric Rate and Corporate Filings

February 24, 2004.

The following filings have been made with the Commission. The filings are listed in ascending order within each docket classification.

1. Astoria Energy, LLC

[Docket Nos. EC04-67-000 and ER01-3103-006]

Take notice that on February 20, 2004, Astoria Energy, LLC filed with the Federal Energy Regulatory Commission an application pursuant to Section 203 of the Federal Power Act for authorization of an indirect disposition of jurisdictional facilities whereby additional equity interests will be issued to new non-utility investors in the application's proposed 1000 MW new gas-fired generating station in Queens County, New York. The application seeks privileged treatment of a term sheet.

Comment Date: March 12, 2004.

2. Fox Energy Company LLC

[Docket No. EG04-35-000]

Take notice that on February 20, 2004, Fox Energy Company LLC (Applicant) filed with the Federal Energy Regulatory Commission an application for determination of exempt wholesale generator status pursuant to part 365 of the Commission's regulations.

Applicant, a Wisconsin limited liability company, proposes to own and operate a 235 megawatt natural gas-fired combined cycle electric generating facility located in the Town of Kaukauna, Outagamie County, Wisconsin. Applicant further states that copies of the application were served upon the United States Securities and Exchange Commission and Public Service Commission of Wisconsin.

Comment Date: March 12, 2004.

3. Niagara Mohawk Power Corporation

[Docket No. EL03-204-002]

Take notice that on February 6, 2004, Niagara Mohawk Power Corporation, a National Grid company tendered for filing a compliance report pursuant to Commission Order issued December 23, 2003 in Docket No. EL03-204-000.

Comment Date: March 5, 2004.

4. Niagara Mohawk Power Corporation

[Docket No. EL03-234-002]

Take notice that on February 6, 2004, Niagara Mohawk Power Corporation, a National Grid company, tendered for filing a compliance report pursuant to Commission Order issued December 23, 2003 in Docket No. EL03-234-000.

Comment Date: March 5, 2004.

5. South Mississippi Electric Power Association, Complainant v. Entergy Corp., Entergy Services, Inc., Entergy Mississippi, Inc., Entergy Arkansas, Inc., Entergy Gulf States, Inc., Entergy Louisiana, Inc., and Entergy New Orleans, Inc., Respondents

[Docket No. EL04-84-000]

Take notice that on February 23, 2004, South Mississippi Electric Power Association (SMEPA), (Complainant), filed a Complaint Concerning Improper Reactive Power Charges against Entergy Corp., Entergy Services, Inc., Entergy Mississippi, Inc., Entergy Arkansas, Inc., Entergy Gulf States, Inc., Entergy Louisiana, Inc., and Entergy New Orleans, Inc. (collectively Entergy) pursuant to Sections 201, 206, and 306 of the Federal Power Act and Rule 206 of the Commission's Rules (18 CFR 385.206).

Complainant requests that the Commission find that Entergy's reactive power charges for the transmission of SMEPA's 75 MW purchase from the Big Cajun II Generating Plant violate the SMEPA-Entergy pre-Order No. 888 transmission contract because it prohibits imposition of additional charges absent SMEPA's consent, and, in addition, even if they were applicable, Entergy's Open Access Transmission Tariff and Order No. 888, because SMEPA is self-supplying reactive power to Entergy. Complainant further requests that the Commission determine that Entergy's reactive power charges to SMEPA are unduly discriminatory. Complainant requests that the Commission order Entergy to cease billing SMEPA for Schedule 2 charges for the transmission of SMEPA's 75 MW purchase from Big Cajun II and order Entergy to return, with interest, the Schedule 2 charges which SMEPA has paid under protest.

Comment Date: March 15, 2004.

6. CPN Pleasant Hill, LLC and CPN Pleasant Hill Operating, LLC

[Docket No. ER01-915-002]

Take notice that on February 20, 2004, CPN Pleasant Hill, LLC (CPN) and CPN Pleasant Hill Operating, LLC (CPN Operating) submitted for filing their triennial updated market power analysis in compliance with the Commission order issued in Docket No. ER01-915-000 on February 20, 2001.

Comment Date: March 12, 2004.

7. Entergy Services, Inc.

[Docket No. ER04-35-002]

Take notice that on February 20, 2004, Entergy Services, Inc., (Entergy) tendered for filing on behalf of the Entergy Operating Companies, Entergy Arkansas, Inc., Entergy Gulf States, Inc., Entergy Louisiana, Inc., Entergy Mississippi, Inc., and Entergy New Orleans, Inc., a compliance filing in response to the Commission's issued December 22, 2003 in Docket No. ER04-35-000, in Entergy Services, Inc., 105 FERC ¶ 61,318 (2003).

Comment Date: March 12, 2004.

8. PJM Interconnection, L.L.C.

[Docket No. ER04-391-001]

Take notice that on February 20, 2004, PJM Interconnection, L.L.C. (PJM), submitted for filing an executed substitute interconnection service agreement (ISA) among PJM, Fairless Energy, L.L.C., and PECO Energy Company that includes language, requested by Commission staff, regarding disclosure of confidential information to the Commission or its staff. PJM requests a waiver of the Commission's 60-day notice requirement to permit a December 12, 2003 effective date for the ISA.

PJM states that copies of this filing were served upon the parties to the agreements, the state regulatory commissions within the PJM region, and the official service list complied by the Secretary in this proceeding.

Comment Date: March 12, 2004.

9. CalPeak Power—El Cajon, LLC

[Docket No. ER04-517-001]

Take notice that on February 20, 2004, CalPeak Power—El Cajon, LLC (El Cajon) tendered for filing substitute rate schedule sheets to the January 30, 2004 filing in Docket No. ER04-517-000, setting forth corrections to the schedules to the Must-Run Service Agreement between El Cajon and the California Independent System Operator Corporation.

Comment Date: March 12, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-434 Filed 03-02-04; 8:45 am]

BILLING CODE 6717-01-P